DEPARTMENT OF COMMERCE

International Trade Administration

[A-570-954, A-201-837]

Certain Magnesia Carbon Bricks from the People's Republic of China and Mexico: Postponement of Preliminary Determinations of Antidumping Duty Investigation

AGENCY: Import Administration, International Trade Administration, Department of Commerce.

EFFECTIVE DATE: December 17, 2009.

FOR FURTHER INFORMATION CONTACT: Paul Walker (the People's Republic of China) or David Goldberger (Mexico), AD/CVD Operations, Offices 9 and 2, Import Administration, International Trade Administration, U.S. Department of Commerce, 14th Street and Constitution Avenue, NW., Washington, DC 20230; telephone: (202) 482-0413 or (202) 482-4136, respectively.

SUPPLEMENTARY INFORMATION:

Postponement of Preliminary Determinations

On August 18, 2009, the Department of Commerce (the Department) initiated the antidumping investigations of Certain Magnesia Carbon Bricks from the People's Republic of China and Mexico. See Certain Magnesia Carbon Bricks from the People's Republic of China and Mexico: Initiation of Antidumping Duty Investigations, 74 FR 42852 (August 25, 2009).

The notice of initiation stated that unless postponed the Department would issue the preliminary determinations for these investigations no later than 140 days after the date of initiation, in accordance with section 733(b)(1)(A) of the Tariff Act of 1930, as amended (the Act). The preliminary determinations are currently due no later than January 5, 2010.

On December 8, 2009, the petitioner, Resco Products Inc., made a timely request pursuant to section 733(c)(1)(A) of the Act and 19 CFR 351.205(e) for a 50-day postponement of the preliminary determinations. The petitioner requested postponement of the preliminary determinations in order to ensure that the Department has ample time to thoroughly analyze the complex issues involved in these investigations.

Because there are no compelling reasons to deny the request, the Department is postponing the deadline for the preliminary determinations pursuant to section 733(c)(1)(A) of the Act to February 24, 2010, the 190th day from the date of initiation. The deadline for the final determinations will continue to be 75 days after the date of the preliminary determinations, unless postponed.

This notice is issued and published pursuant to sections 733(c)(2) of the Act and 19 CFR 351.205(f)(1).

Dated: December 11, 2009.
Carole A. Showers,
Acting Deputy Assistant Secretary for Import Administration.

[FR Doc. E9-30049 Filed 12-16-09; 8:45 am]

BILLING CODE 3510-DS-S